DEPARTMENT OF ENERGY

Federal Energy Regulatory Commission

18 CFR Part 12

[Docket No. RM20-9-000; Order No. 880]

Safety of Water Power Projects and Project Works

AGENCY: Federal Energy Regulatory Commission, Department of Energy.

ACTION: Final rule; correction.

SUMMARY: The Federal Energy Regulatory Commission (Commission) is correcting a final rule that appeared in the Federal Register on January 11, 2022. The final rule revised the Commission's regulations governing the safety of hydroelectric projects licensed by the Commission under the Federal Power Act.

DATES: The rule is effective April 11, 2022.

FOR FURTHER INFORMATION CONTACT: Tara DiJohn (Legal Information), Office of the General Counsel, Federal Energy Regulatory Commission, 888 First Street NE, Washington, DC 20426, (202) 502-8671, tara.dijohn@ferc.gov.

SUPPLEMENTARY INFORMATION: In FR Doc. 2021-27736 appearing on pages 1490-1520, in the Federal Register of Tuesday, January 11, 2022, the following corrections are made:

§ 12.3 [Corrected]

1. On page 1513, in the second column, in amendatory instruction 2.b. for § 12.3, the instruction “Redesignating paragraph (b)(4)(xiii) as (b)(4)(xix);” is corrected to read “Redesignating paragraph (b)(4)(xiii) as paragraph (b)(4)(xiv);”.

2. On page 1514, in the second column, in amendatory instruction 4 for § 12.10, paragraph (a)(1) and the first sentence of paragraph (a)(2) are corrected to read as follows:

§ 12.10 [Corrected]

(a) * * * (1) Initial reports. An applicant or licensee must report by email or telephone to the Regional Engineer any condition affecting the safety of a project or projects works, as defined in § 12.3(b)(4). The initial report must be made as soon as practicable after that condition is discovered, preferably within 72 hours, without unduly interfering with any necessary or appropriate emergency repair, alarm, or other emergency action procedure.

(2) * * * Following the initial report required in paragraph (a)(1) of this section, the applicant or licensee must submit to the Regional Engineer a written report on the condition affecting the safety of the project or project works verified in accordance with § 12.13. * * *

* * * * *

§§ 12.40 through 12.44 [Redesignated as §§ 12.50 through 12.54] [Corrected].

3. On page 1519, in the second column, remove amendatory instruction 10.

4. On page 1515, in the first column, redesignate amendatory instruction 9, revising subpart D to part 12, as amendatory instruction 10.

5. On page 1515, in the first column, add a new amendatory instruction 9 to read as follows:

§§ 12.40 through 12.44 [Redesignated as §§ 12.50 through 12.54]

9. Redesignate §§ 12.40 through 12.44 as §§ 12.50 through 12.54, respectively.

§ 12.31 [Corrected]

6. Starting on page 1515, in the second column, § 12.31 is corrected as follows:

i. On page 1515, in the second column, in paragraph (d), the term “Gross storage capacity” is corrected to read “Gross storage capacity”.

ii. On page 1515, in the third column, in paragraph (e), the term “Periodic inspection” is corrected to read “Periodic inspection”.

iii. On page 1515, in the third column, in paragraph (f), the term “Comprehensive assessment” is corrected to read “Comprehensive assessment”.

iv. On page 1515, in the third column, in paragraph (g), the term “Previous Part 12D Inspection” is corrected to read “Previous Part 12D Inspection”.

v. On page 1515, in the third column, in paragraph (h), the term “Previous Part 12D Report” is corrected to read “Previous Part 12D Report”.

Dated: February 8, 2022.
Debbie-Anne A. Reese,
Deputy Secretary.

[FR Doc. 2022-03072 Filed 2-14-22; 8:45 am]

BILLING CODE 6717-01-P